DEPARTMENT OF VETERANS AFFAIRS

[OMB Control No. 2900-0675]

VetBiz Vendor Information Pages Verification Program; Correction

AGENCY: Center for Veterans Enterprise, Department of Veterans Affairs.

ACTION: Notice; correction.

SUMMARY: The Department of Veterans Affairs (VA) published a collection of information notice in the Federal Register on December 7, 2010, that contained an error. The notice incorrectly identified the responsible VA organization. This document corrects that error by removing “Veterans Benefits Administration” and adding, in its place, “Center for Veterans Enterprise”.

FOR FURTHER INFORMATION CONTACT: Denise McLamb, Enterprise Records Service (005R1B), Department of Veterans Affairs, 810 Vermont Avenue, NW., Washington, DC 20420, at 202-461-7485.

Correction

In FR Doc. 2010-30550, published on December 7, 2010, at 75 FR 76080, make the following correction. On page 76080, in the first column, at the Agency heading, remove “Veterans Benefits Administration” and add, in its place, “Center for Veterans Enterprise”.

Dated: December 8, 2010.
Gloria P. Armstrong,
Federal Register Liaison Officer, Department of Veterans Affairs.

[FR Doc. 2010-31300 Filed 12-13-10; 8:45 am]

BILLING CODE 8320-01-P